DEPARTMENT OF VETERANS AFFAIRS

[OMB Control No. 2900-0696]

Agency Information Collection Activity Under OMB Review: Availability of Educational Licensing and Certification Records

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0696.”

FOR FURTHER INFORMATION CONTACT: Maribel Aponte, Office of Enterprise and Integration, Data Governance Analytics (008), 810 Vermont Ave. NW, Washington, DC 20420, (202) 266-4688 or email Maribel.aponte@va.gov. Please refer to “OMB Control No. 2900-0696” in any correspondence.

SUPPLEMENTARY INFORMATION:

Authority: 10 U.S.C.16136, 38 U.S.C. 3034, 3241, 3323, 3673(d), 3689, 3690 and 38 CFR 21.4209.

Title: Availability of Educational Licensing and Certification Records, OMB #2900-0696.

OMB Control Number: 2900-0696.

Type of Review: Revision of a currently approved collection.

Abstract: The VA uses this information to decide whether Veterans and beneficiaries of educational assistance have been properly paid, and whether educational institutions and organizations, or entities offering approved licensing and certification tests are following the applicable sections of 10 U.S.C. 16136, 38 U.S.C. 3034, 3241, 3323, 3673(d), 3689, 3690 and 38 CFR 21.4209.

An agency may not conduct or sponsor, and a person is not required to respond to a collection of information unless it displays a currently valid OMB control number. The Federal Register Notice with a 60-day comment period soliciting comments on this collection of information was published at 88 FR 45978 on Tuesday, July 18, 2023, page 45978.

Affected Public: Educational Institutions and Organizations or Entities.

Estimated Annual Burden: 5,242 hours.

Estimated Average Burden Time per Respondent: 2 hours (120 minutes).

Frequency of Response: On Occasion.

Estimated Number of Respondents: 2,621.

By direction of the Secretary.
Maribel Aponte,
VA PRA Clearance Officer, Office of Enterprise and Integration, Data Governance Analytics, Department of Veterans Affairs.

[FR Doc. 2023-20462 Filed 9-20-23; 8:45 am]

BILLING CODE 8320-01-P